OFFICE OF GOVERNMENT ETHICS

Agency Information Collection Activities; Information Collection Renewal; Comment Request for OGE Form 450 Executive Branch Confidential Financial Disclosure Report

AGENCY: Office of Government Ethics (OGE).

ACTION: Notice and request for comments.

SUMMARY: After this first round notice and public comment period, the Office of Government Ethics (OGE) plans to request that the Office of Management and Budget (OMB) renew its approval under the Paperwork Reduction Act for a modified version of an existing information collection, entitled the OGE Form 450 Executive Branch Confidential Financial Disclosure Report.

DATES: Written comments by the public and agencies on this proposed modification and extension are invited and must be received by April 26, 2024.

ADDRESSES: Comments may be submitted to OGE by any of the following methods:

Email: usoge@oge.gov (Include reference to “OGE Form 450 paperwork comment” in the subject line of the message.)

Mail: Office of Government Ethics, Attention: Jennifer Matis, Associate Counsel, 250 E Street SW, Suite 750, Washington, DC 20024-3249.

Instructions: Comments may be posted on OGE's website, www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: jmatis@oge.gov. A copy of the form with proposed changes marked in red is available here: https://oge.box.com/s/vm33qroo5vbbvg542xr4mvqzacyz36fx.

SUPPLEMENTARY INFORMATION:

Title: Executive Branch Confidential Financial Disclosure Report.

Agency Form Number: OGE Form 450.

Abstract: The OGE Form 450 collects information from covered executive branch employees as required under OGE's executive branch wide regulatory provisions in subpart I of 5 CFR part 2634. The basis for the OGE reporting regulation is section 201(d) of Executive Order 12674 of April 12, 1989 (as modified by Executive Order 12731 of October 17, 1990) and 5 U.S.C. 13109. The purpose of collecting this information is to allow agencies to identify and address potential financial conflicts of interest among covered employees. The information collected relates to: assets and income; liabilities; outside positions; agreements and arrangements; and gifts, reimbursements and travel expenses—all subject to various reporting thresholds and exclusions. OGE currently maintains the form in three formats on its website: a PDF version, a 508 compliant PDF version accessible to users who use screen readers to access and interact with digital information, and an Excel version.

OGE seeks renewal of the OGE Form 450 with several modifications. OGE sought and received input from a variety of stakeholders before proposing these modifications. Comments submitted by the public in response to the Federal Register notices published during the last renewal in 2021 were reconsidered. In addition, OGE solicited and received additional comments from OGE employees, agency ethics officials (who are the individuals responsible for reviewing the completed forms for potential conflicts of interest), interested Congressional offices, and the public. On January 19, 2023, OGE held a public meeting to discuss potential changes to the OGE Forms 450 and 278e and accepted written comments in lieu of appearing in-person. See 87 FR 73766 (Dec. 1, 2022).

OGE considered each comment submitted. The proposed modifications discussed below incorporate the suggested changes that OGE believes will provide added clarity and value to the financial disclosure process. OGE is declining to make other suggested changes at this time due to OGE's lack of regulatory authority to make such changes, lack of interest by the affected agencies, and/or the associated costs to agencies' electronic financial disclosure filing systems.

The proposed modifications are described below:

On the instruction page, OGE simplified the navigation to OGEs website for filers who need instructions on completing the form and added a hyperlink.

On the cover page, OGE proposes to delete the field for mailing address and to add a question regarding whether the filer has a spouse who has paid employment outside the federal government. The yes/no question would be added to the current list of yes/no questions. Filers are required by regulation to report their spouses' employment income. In OGE's listening sessions with agency ethics officials, they felt strongly that the addition of this yes/no question would permit agency reviewers to better identify potential inadvertent omissions elsewhere on the form. OGE believes that the minor impact to the filers of answering this additional yes/no question is outweighed by the benefit to the efficiency and effectiveness of the financial disclosure review process. OGE also clarified the definition of “special government employee” on the cover page based on feedback regarding the current explanatory language.

In the main body of the form, OGE proposes to make a number of changes to the instructions to increase their clarity. Guidance would be added to make it clearer what is and is not reportable. A note would be added indicating that the reporting thresholds for gifts are applicable for calendar years 2023-2025 and that the amounts are adjusted every three years. Additional examples would be added to the Examples page and each section, further demonstrating how particular information should be reported, and some definitions would be removed to make room for additional examples and other clarifying changes. The information that had been provided in the removed definitions is more clearly addressed on other parts of the form.

These changes would not modify the confidential financial disclosure reporting requirements in any way. They are intended to help ensure that filers report all required information in the proper manner, without overreporting unnecessary personally identifiable information.

Finally, OGE plans to discontinue use of the PDF version of the form that is not accessible to users who use screen readers (i.e. it is not “508 compliant”). This version has a feature that allows users to add additional blank pages. This feature is no longer technologically supported. OGE proposes to discontinue use of the nonaccessible PDF version and instead add additional blank lines to the 508 compliant PDF version. Going forward, therefore, OGE seeks approval only for two versions of the form—the 508 compliant PDF version and the Excel version.

OMB Control Number: 3209-0006.

Type of Information Collection: Extension of a currently approved collection.

Type of Review Request: Regular.

Affected public: Prospective Government employees, including special Government employees, whose positions are designated for confidential disclosure filing and whose agencies require that they file new entrant confidential disclosure reports prior to assuming Government responsibilities.

Estimated Annual Number of Respondents: 31,654.

Estimated Time per Response: 3 hours.

Estimated Total Annual Burden: 94,962 hours.

Request for Comments: OGE is publishing this first round notice of its intent to request paperwork clearance renewal for the OGE Form 450. Public comment is invited specifically on the need for and practical utility of this information collection, the accuracy of OGE's burden estimate, the enhancement of quality, utility and clarity of the information collected, and the minimization of burden (including the use of information technology). OGE specifically seeks comments on whether the proposed changes will change the burden of completing the form. Comments received in response to this notice will be summarized for, and may be included with, the OGE request for extension of OMB paperwork approval. The comments will also become a matter of public record.

Approved: February 20, 2024.
Shelley K. Finlayson,
Acting Director, U.S. Office of Government Ethics.

[FR Doc. 2024-03813 Filed 2-23-24; 8:45 am]

BILLING CODE 6345-03-P